COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete a product and a service previously furnished by such agencies.

COMMENTS MUST BE RECEIVED ON OR BEFORE: February 16, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed additions, the entities of the Federal Government identified in this notice for each service will be required to procure the services listed below from nonprofit agencies employing persons who are blind or have other severe disabilities. I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to Procurement List for production by the nonprofit agencies listed:

Services

Service Type/Location: Base Supply Center U.S. Coast Guard Integrated Support Command, Kodiak, Alaska.

NPA: Raleigh Lions Clinic for the Blind, Inc., Raleigh, North Carolina.

Contract Activity: U.S. Coast Guard Integrated Support Command, Kodiak, Alaska.

Service Type/Location: Custodial Service, U.S. Customs Service, 457 Aviation Hanger, San Antonio, Texas, U.S. Customs Service, Bldg #2, 447 Sandau Road, San Antonio, Texas.

NPA: Mavagi Enterprises, Inc., San Antonio, Texas.

Contract Activity: U.S. Customs Service, Indianapolis, Indiana.

Service Type/Location: Hospital Housekeeping Services, Darnall Army Community Hospital, Fort Hood, Texas.

NPA: Professional Contract Services, Inc., Austin, Texas.

Contract Activity: Headquarters, III Corps, Fort Hood, Texas.

Service Type/Location: Janitorial/Custodial, U.S. Army Reserve Center, Duluth, Minnesota.

NPA: Goodwill Industries Vocational Enterprises, Inc., Duluth, Minnesota.

Contract Activity: Headquarters, 88th Regional Support Command, Fort Snelling, Minnesota.

Service Type/Location: Mess Attendant, Willow Grove Naval Air Station Joint Reserve Base; Liberty Dining Hall, Horsham, Pennsylvania.

NPA: Occupational Training Center of Burlington County, Mt. Holly, New Jersey.

Contract Activity: Fleet Industrial Supply Center, Norfolk Det Philadelphia, Pennsylvania.

Deletions

I certify that the following action will not have a significant impact on a substantial number of small entities. The major factors considered for this certification were:

1. If approved, the action will not result in any additional reporting, recordkeeping or other compliance requirements for small entities.

2. If approved, the action will result in authorizing small entities to furnish the product and service to the Government.

3. There are no known regulatory alternatives which would accomplish the objectives of the Javits-Wagner-O'Day Act(41 U.S.C. 46-48c) in connection with the products and services proposed for deletion from the Procurement List.

The following product and service are proposed for deletion from the Procurement List:

Products

Product/NSN: Brush, Tooth Brush Style, 7920-00-900-3577.

NPA: None currently authorized.

Contract Activity: GSA, General Product Center.

Services

Service Type/Location: Janitorial/Custodial, U.S. Courthouse and Customhouse, Toledo, Ohio.

NPA: ContracTech, Inc., Toledo, Ohio.

Contract Activity: GSA, Public Buildings Service.

Sheryl D. Kennerly,
Director, Information Management.

[FR Doc. 03-1143 Filed 1-16-03; 8:45 am]

BILLING CODE 6353-01-P